DEPARTMENT OF JUSTICE

Notice of Lodging of Consent Decree in Comprehensive Environmental Response, Compensation and Liability Act Cost Recovery Action

In accordance with the Department Policy, 28 CFR 50.7, notice is hereby given that a Consent Decree in United States v. Ameron International Corp., Jotun A/S, and The Valspar Corporation, Civil Action No. S01-CV-1544 was lodged with the United States District Court for the District of Maryland on May 29, 2001. This Consent Decree resolves claims of the United States' against Ameron International Corp., Jotun A/S, Jotun Marine Coatings, and The Valspar Corporation (“Settling Defendants”) under Section 107(a) of the Comprehensive Environment Response, Compensation and Liability Act (“CERCLA”), 42 U.S.C. 9607(a), for response costs incurred at the Ainsworth Paint and Chemical Superfund Site in Baltimore, Maryland, Pennsylvania. The Consent Decree requires the Settling Defendants to pay a total of $799,500 in past response costs.

The Department of Justice will accept written comments on the proposed Consent Decree for thirty (30) days from the date of publication of this notice. Please address comments to the Acting Assistant Attorney General, Environmental and Natural Resources Division, Department of Justice, P.O. Box 7611, Ben Franklin Station, Washington, D.C. 20044 and refer to United States v. Ameron International, Jotun A/S, and The Valspar Corporation, DOJ #90-11-3-06454.

Copies of the proposed Consent Decree may be examined at the Office of the United States Attorney, District of Maryland, 101 West Lombard Street, 6225 U.S. Courthouse, Baltimore, MD 21201 and at EPA Region III, 1650 Arch Street, Philadelphia, PA 19103-2029. A copy of the proposed Consent Decree may be obtained by mail from the U.S. Department of Justice, Consent Decree Library, P.O. Box 7611, Washington, DC. 20044-7611. When requesting a copy of the proposed Consent Decree, please enclose a check to cover the twenty-five cents per page reproduction cost payable to the “Consent Decree Library” in the amount of $6.50, and please reference United States v. Ameron International Corp., Jotun A/S, and The Valspar Corporation, DOJ No. 90-11-2-06454.

Robert Brook,
Assistant Chief, Environmental Enforcement Section, Environmental and Natural Resources Division, Department of Justice.

[FR Doc. 01-14714 Filed 6-11-01; 8:45 am]

BILLING CODE 4410-15-M